FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than February 21, 2012.

A. Federal Reserve Bank of Richmond (Adam M. Drimer, Assistant Vice President) 701 East Byrd Street, Richmond, Virginia 23261-4528:

1. Sandy Spring Bancorp., Inc., Olney, Maryland; to merge with Commerce First Bancorp, Inc., and thereby indirectly acquire 100 percent of the voting shares of CommerceFirst Bank, both in Annapolis, Maryland.

B. Federal Reserve Bank of St. Louis (Glenda Wilson, Community Affairs Officer) P.O. Box 442, St. Louis, Missouri 63166-2034:

1. River Valley Bancorp, Madison, Indiana; to become a bank holding company by acquiring Dupont State Bank, Dupont, Indiana. River Valley Financial Bank, Madison, Indiana, the existing thrift subsidiary of Applicant, will merge with Dupont State Bank, Dupont, Indiana, as part of the transaction.

C. Federal Reserve Bank of Minneapolis (Jacqueline G. King, Community Affairs Officer) 90 Hennepin Avenue, Minneapolis, Minnesota 55480-0291:

1. MinnDak Bancshares, Inc., Park Rapids, Minnesota; to become a bank holding company by acquiring 100 percent of the voting shares of Kent Bancshares, Inc., and thereby indirectly acquire Kent State Bank, both in Kent, Minnesota.

D. Federal Reserve Bank of Kansas City (Dennis Denney, Assistant Vice President) 1 Memorial Drive, Kansas City, Missouri 64198-0001:

1. New West Banks of Colorado, Inc. Employee Stock Ownership Plan Trust, Greeley, Colorado; to become a bank holding company by acquiring up to 30 percent of the voting shares of New West Banks of Colorado, Inc., and thereby acquire shares of New West Bank, both in Greeley, Colorado.

Board of Governors of the Federal Reserve System, January 20, 2012.
Robert deV. Frierson,
Deputy Secretary of the Board.

[FR Doc. 2012-1524 Filed 1-24-12; 8:45 am]

BILLING CODE 6210-01-P